DEPARTMENT OF HEALTH AND HUMAN SERVICES

National Institutes of Health

National Institute of General Medical Sciences Amended; Notice of Meeting

Notice is hereby given of a change in the meeting of the National Institute of General Medical Sciences Special Emphasis Panel, November 21, 2013, 12:00 p.m. to November 21, 2013, 5:00 p.m., National Institutes of Health, Natcher Building, 45 Center Drive, Room 3An. 18, Bethesda, MD 20892 which was published in the Federal Register on November 7, 2013, 78 FR 66947.

The meeting will start on November 21, 2013 at 11:00 a.m. and end November 21, 2013 at 2:00 p.m. The meeting location remains the same. The meeting is closed to the public.

Dated: November 13, 2013.
Melanie J. Gray,
Program Analyst, Office of Federal Advisory Committee Policy.

[FR Doc. 2013-27599 Filed 11-18-13; 8:45 am]

BILLING CODE 4140-01-P